DEPARTMENT OF TRANSPORTATION

Office of the Secretary

Aviation Proceedings

Aviation Proceedings, Agreements filed during the week ending August 18, 2000.

The following Agreements were filed with the Department of Transportation under the provisions of 49 U.S.C. Sections 412 and 414. Answers may be filed within 21 days after the filing of the application.

Docket Number: OST-2000-7804

Date Filed: August 14, 2000

Parties: Members of the International Air Transport Association

Subject: PTC COMP 0663 dated 11 August 2000, Composite Expedited Resolution 017c (except USA/US Territories), Intended effective date: 1 September 2000

Docket Number: OST-2000-7805

Date Filed: August 14, 2000

Parties: Members of the International Air Transport Association

Subject: PTC COMP 0664 dated 11 August 2000, Composite Expedited Resolutions 017g, 024d (USA/US Territories), Intended effective date: 1 September 2000

Docket Number: OST-2000-7806

Date Filed: August 15, 2000

Parties: Members of the International Air Transport Association

Subject: CSC/22/Meet/003/2000 dated July 31, 2000, Finally Adopted Resolutions & Recommended Practices r1-4, Minutes—CSC/22/Meet/003/2000 dated August 4, 2000, Intended effective date: 1 October 2000

Docket Number: OST-2000-7807

Date Filed: August 15, 2000

Parties: Members of the International Air Transport Association

Subject: CBPP/6/Meet/004/99 dated July 31, 2000, Finally Adopted Resos & Recommended Practices r1-2, Minutes—CBPP/6/Meeting/003/99 dated April 20, 2000, Intended effective date: 1 October 2000

Docket Number: OST-2000-7808

Date Filed: August 15, 2000

Parties: Members of the International Air Transport Association

Subject: PTC COMP 0665 dated 11 August 2000, Composite Expedited Resolutions 014m, 300 (Baggage) (Except USA/US Territories), Intended effective date: 1 October 2000

Docket Number: OST-2000-7809

Date Filed: August 15, 2000

Parties: Members of the International Air Transport Association

Subject: PTC12 CAN-EUR 0064 dated 25 July 2000, Canada-Europe Resolutions r1-r28, Minutes—PTC12 CAN-EUR 0065 dated 2 August 2000, Tables—PTC12 CAN-EUR FARES 0019 dated 4 August 2000, Intended effective date: 1 January 2001

Docket Number: OST-2000-7810

Date Filed: August 15, 2000

Parties: Members of the International Air Transport Association

Subject: PTC COMP 0666 dated 11 August 2000, Composite Expedited Resolution 201 (USA/US Territories), Intended effective date: 1 October 2000

Docket Number: OST-2000-7811

Date Filed: August 15, 2000

Parties: Members of the International Air Transport Association

Subject: PTC2 EUR-ME 0095 dated 14 July 2000, Europe-Middle East Resolution r1-r37, Minutes—PTC2 EUR-ME 0099 dated 15 August 2000, Tables—PTC2 EUR-ME FARES 0042 dated 14 July 2000, Intended effective date: 1 January 2001

Docket Number: OST-2000-7812

Date Filed: August 15, 2000

Parties: Members of the International Air Transport Association

Subject: PTC COMP 0667 dated 11 August 2000, Composite Expedited Resolution 002kk, 010h, (USA/US territories), Intended effective date: 1 November 2000

Docket Number: OST-2000-7813

Date Filed: August 16, 2000

Parties: Members of the International Air Transport Association

Subject: PTC2 EUR-ME 0097 dated 4 August 2000, Mail Vote 082-TC2 Europe-Middle East Resolutions, Intended effective date: 1 January 2001

Docket Number: OST-2000-7822

Date Filed: August 17, 2000

Parties: Members of the International Air Transport Association

Subject: PTC1 0148 dated 11 August 2000, TC1 Caribbean Expedited Resolution 002d, Intended effective date: 15 September 2000

Docket Number: OST-2000-7823

Date Filed: August 17, 2000

Parties: Members of the International Air Transport Association

Subject: PTC1 0147 dated 11 August 2000, TC1 Areawide Expedited Resolutions 015v, 311t, Intended effective date: 15 September 2000

Docket Number: OST-2000-7824

Date Filed: August 17, 2000

Parties: Members of the International Air Transport Association

Subject: PTC1 0149 dated 11 August 2000, TC1 Within South America Expedited Resolutions 002o, 071b, Intended effective date: 15 September 2000

Docket Number: OST-2000-7829

Date Filed: August 18, 2000

Parties: Members of the International Air Transport Association

Subject: PTC1 0150 dated 15 August 2000, TC1 Longhaul (except between USA and Chile), Expedited Resolutions r1-r6, Intended effective date: 1 October 2000

Dorothy Y. Beard,
Federal Register Liaison.

[FR Doc. 00-22640 Filed 9-1-00; 8:45 am]

BILLING CODE 4910-62-P